DEPARTMENT OF DEFENSE

Department of the Air Force

GPS Satellite Simulator Control Working Group Meeting

AGENCY: Space and Missile Systems Center, Global Positioning Systems (GPS) Directorate, Department of the Air Force, DoD.

ACTION: Meeting Notice.

SUMMARY: This meeting notice is to inform GPS simulator manufacturers, who supply products to the Department of Defense (DoD), and GPS simulator users, both government and DoD contractors, that the GPS Directorate will host a GPS Satellite Simulator Control Working Group (SSCWG) meeting on 14 December 2012 from 0900-1600 PST at Los Angeles Air Force Base.

The purpose of this meeting is to disseminate information about GPS simulators, discuss current and on-going efforts related to GPS simulators, and to discuss future GPS simulator development. This event will be conducted as a classified meeting.

FOR FURTHER INFORMATION CONTACT: We request that you register for this event no later than 10 December 2012. Please send your registration (name, organization, phone number and email address) to wayne.urubio.3@us.af.mil and have your security personnel submit your VAR through JPAS. SMO Code: GPSD and POC: Lt Wayne Urubio, 310-653-4603. Please visit http://www.gps.gov/technical/sscwg/ for information regarding an address and a draft agenda.

Henry Williams Jr,
DAF, Acting Air Force Federal Register Liaison Officer.

[FR Doc. 2012-28550 Filed 11-23-12; 8:45 am]

BILLING CODE 5001-10-P